DEPARTMENT OF VETERANS AFFAIRS

Veterans' Advisory Committee on Rehabilitation, Notice of Meeting

The Department of Veterans Affairs (VA) gives notice under the Federal Advisory Committee Act, 5 U.S.C. ch. 10, that the Veterans' Advisory Committee on Rehabilitation (hereinafter the Committee) will meet on Wednesday, August 2, 2023, and Thursday, August 3, 2023, at 1800 G Street NW, Washington, DC 20006, Conference Room 542. The meeting sessions will begin at 10 a.m. and conclude at 3 p.m. Eastern Standard Time. All sessions are open to the public.

The purpose of the Committee is to advise the Secretary of VA on the rehabilitation needs of Veterans with disabilities and the administration of VA's Veteran rehabilitation programs. During the meeting sessions, the Committee will discuss the following topics: VA Suicide Hotline routing, Individual Unemployability language clarification, and the Veteran Readiness and Employment Non-Paid Work Experience Program. The Committee will also invite speakers to provide information about other topics the Committee may utilize for potential 2023 recommendations.

Although no time will be allocated for receiving oral presentations from the public, the Committee will accept advance comments until close of business Friday, July 28, 2023. Members of the public may submit written statements for review by the Committee to Mr. David Smith, Designated Federal Officer, Veterans Benefits Administration (28), 810 Vermont Avenue NW, Washington, DC 20420, or at VACOR.VBACO@va.gov or on (202) 461-9617. In the communication, writers must identify themselves and state the organization, association, persons or persons they represent.

Members of the public may attend in person at 1800 G St. NW, Washington, DC 20006, or virtually via Microsoft Teams.

Teams Meeting link: https://teams.microsoft.com/l/meetup-join/19%3ameeting_NjU1MDdkZWEtNjhkMS00YmQwLWI1YzAtNWY2MWUzYmIxMWVk%40thread.v2/0?context=%7b%22Tid%22%3a%22e95f1b23-abaf-45ee-821d-b7ab251ab3bf%22%2c%22Oid%22%3a%228252bbc1-b123-48c8-aa1c-6f43c7d548c7%22%7d

or call in (audio only): +1 872-701-0185, United States, Chicago

Phone Conference ID: 356 832 538#

Dated: July 17, 2023.
LaTonya L. Small,
Federal Advisory Committee Management Officer.

[FR Doc. 2023-15433 Filed 7-19-23; 8:45 am]

BILLING CODE 8320-01-P